DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: September 17, 2020, 10:00 a.m.

PLACE: Open to the public via audio Webcast only.¹

¹ Join FERC online to listen live at http://ferc.capitolconnection.org/.

STATUS: Open.

MATTERS TO BE CONSIDERED: Agenda. * Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link.

1070th—MEETING
[Open meeting; September 17, 2020; 10:00 a.m.]
Item No. | Docket No. | Company
ADMINISTRATIVE
A-1 | AD20-1-000 | Agency Administrative Matters.
A-2 | AD20-2-000 | Customer Matters, Reliability, Security and Market Operations.
A-3 | AD20-27-000 | Recent Changes in Commission Rehearing Practice.
ELECTRIC
E-1 | RM18-9-000 | Participation of Distributed Energy Resource Aggregations in Markets Operated by Regional Transmission Organizations and Independent System Operators.
E-2 | RM20-19-000 | Equipment and Services Produced or Provided by Certain Entities Identified as Risks to National Security.
E-3 | EL15-68-005 | Midcontinent Independent System Operator, Inc.
| EL15-36-005 | Otter Tail Power Company v. Midcontinent Independent System Operator, Inc.
| ER16-696-006, ER18-2513-001, ER18-2513-003 | Midcontinent Independent System Operator, Inc.
E-4 | EL20-15-000 | North Carolina Eastern Municipal Power Agency.
E-5 | RM19-16-000, RM19-17-000 | Electric Reliability Organization Proposal to Retire Requirements in Reliability Standards Under the NERC Standards Efficiency Review.
E-6 | ER20-2030-000, TS20-5-000 | Altavista Solar, LLC.
E-7 | ER20-1755-000 | Green Mountain Power Corporation.
E-8 | ER19-2396-001 | Louisville Gas and Electric Company.
| ER19-2397-001 | Kentucky Utilities Company.
E-9 | EC98-2-003 | Louisville Gas and Electric Company.
| ER18-2162-002 | Kentucky Utilities Company.
E-10 | ER20-739-002 | ISO New England Inc.
E-11 | ER20-609-001 | Ohio Power Company, AEP Ohio Transmission Company, Inc., and PJM Interconnection, L.L.C.
E-12 | ER20-431-001 | Ohio Power Company, AEP Ohio Transmission Company, Inc., and PJM Interconnection, L.L.C.
E-13 | ER20-543-000, ER20-543-001 | PJM Interconnection, L.L.C.
E-14 | ER05-1056-011 | Chehalis Power Generating, L.P.
E-15 | ER20-1313-000, ER19-1357-000 | GridLiance High Plains LLC.
| ER18-2358-001, (consolidated) | Southwest Power Pool, Inc.
E-16 | ER20-1890-000 | California Independent System Operator Corporation.
E-17 | ER19-1823-003, ER19-1960-003 | Midcontinent Independent System Operator, Inc.
E-18 | ER20-170-002 | Midcontinent Independent System Operator, Inc.
E-19 | EL19-38-001 | City and County of San Francisco v. Pacific Gas and Electric Company.
E-20 | EL19-84-000, QF19-1331-001 | Clean Fuel Dane, LLC.
E-21 | EL20-36-000 | Bonneville Power Administration v. Avista Corporation.
E-22 | EL20-55-000, QF15-28-001, QF15-29-001 | CF CVEC Owner One LLC.
E-23 | EL20-51-000 | Southern California Edison Company.
E-24 | ER20-276-002 | Midcontinent Independent System Operator, Inc.
E-25 | EL20-30-000 | Indiana Municipal Power Agency, and City of Lawrenceburg, Indiana v. PJM Interconnection, L.L.C., American Electric Power Service Corp., and Lawrenceburg Power, LLC.
| EL20-56-000 | PJM Interconnection, L.L.C.
GAS
G-1 | OMITTED
G-2 | RP20-1105-000 | Aethon United BR LP and Aethon III HV LLC.
G-3 | RP20-957-000 | Golden Pass LNG Terminal LLC.
G-4 | PR20-56-000, PR20-56-001 | Enstor Katy Storage and Transportation, L.P.
G-5 | PR20-61-000, PR20-61-001 | Enable Oklahoma Intrastate Transmission, LLC.
G-6 | RP20-481-001 | BP Energy Company v. Natural Gas Pipeline Company of America LLC.
HYDRO
H-1 | P-2197-135 | Cube Yadkin Generation LLC.
H-2 | P-1494-453 | Grand River Dam Authority.
CERTIFICATES
C-1 | CP20-53-000 | National Fuel Gas Supply Corporation.
C-2 | CP20-45-000 | Saltville Gas Storage Company L.L.C.
C-3 | OMITTED
C-4 | CP15-17-005 | Sabal Trail Transmission, LLC.
C-5 | CP19-484-000 | Kinder Morgan Louisiana Pipeline LLC.
C-6 | CP19-488-000 | Columbia Gulf Transmission, LLC.
C-7 | CP17-178-001 | Alaska Gasline Development Corporation.
C-8 | CP19-14-001 | Mountain Valley Pipeline, LLC.

Dated: September 10, 2020.
Kimberly D. Bose,
Secretary.

The public is invited to listen to the meeting live at http://ferc.capitolconnection.org/. Anyone with internet access who desires to hear this event can do so by navigating to www.ferc.gov' s Calendar of Events and locating this event in the Calendar. The event will contain a link to its audio webcast. The Capitol Connection provides technical support for this free audio webcast. It will also offer access to this event via phone bridge for a fee. If you have any questions, visit http://ferc.capitolconnection.org/ or contact Shirley Al-Jarani at 703-993-3104.

[FR Doc. 2020-20393 Filed 9-11-20; 11:15 am]

BILLING CODE 6717-01-P